DEPARTMENT OF AGRICULTURE

Animal and Plant Health Inspection Service

7 CFR Parts 318 and 319

[Docket No. 00-059-2]

Movement and Importation of Fruits and Vegetables

AGENCY: Animal and Plant Health Inspection Service.

ACTION: Affirmation of interim rule as final rule.

SUMMARY: We are adopting as a final rule, without change, an interim rule that amended the regulations that govern the movement of fruits and vegetables from Puerto Rico and the U.S. Virgin Islands to require the treatment of pigeon peas (fresh shelled or in the pod) from Puerto Rico for movement into any other area of the United States. In addition, we amended the regulations that govern the importation of fruits and vegetables to require the treatment of pigeon peas (fresh shelled or in the pod) from the Dominican Republic imported into any area of the United States except Puerto Rico, and to prohibit the importation of mangoes from the British Virgin Islands into the U.S. Virgin Islands. These actions were necessary to prevent the introduction and dissemination of plant pests that are new to or not widely distributed within the United States.

DATES: The interim rule became effective January 21, 2003.

FOR FURTHER INFORMATION CONTACT: Mr. Hesham A. Abuelnaga, Import Specialist, Phytosanitary Issues Management Team, PPQ, APHIS, 4700 River Road Unit 140, Riverdale, MD 20737-1236; (301) 734-5334.

SUPPLEMENTARY INFORMATION:

Background

The regulations in “Subpart—Fruits and Vegetables from Puerto Rico or Virgin Islands” (7 CFR 318.58 through 318.58-16) are designed to prevent the dissemination of plant pests, including diseases, from Puerto Rico and the U.S. Virgin Islands into other parts of the United States. The regulations in “Subpart—Fruits and Vegetables” (7 CFR 319.56 through 319.56-8) prohibit or restrict the importation of fruits and vegetables into the United States from certain parts of the world to prevent the introduction and dissemination of plant pests that are new to or not widely distributed within the United States.

In an interim rule effective and published in the Federal Register on January 21, 2003 (68 FR 2681-2684, Docket No. 00-059-1), we amended the regulations in “Subpart—Fruits and Vegetables from Puerto Rico or Virgin Islands” to require the treatment of pigeon peas (fresh shelled or in the pod) from Puerto Rico for movement into any other area of the United States, including the U.S. Virgin Islands. (The Federal Register published a correction (68 FR 6544) to the interim rule on February 7, 2003.) In addition, we amended the regulations in “Subpart—Fruits and Vegetables” to require the treatment of pigeon peas (fresh shelled or in the pod) from the Dominican Republic for importation into any area of the United States, except Puerto Rico, and to prohibit the importation of mangoes from the British Virgin Islands into the U.S. Virgin Islands. These actions were necessary to protect the United States from the introduction or spread of injurious plant pests.

Comments on the interim rule were required to be received on or before March 24, 2003. We did not receive any comments. Therefore, for the reasons given in the interim rule, we are adopting the interim rule as a final rule.

This action also affirms the information contained in the interim rule concerning Executive Order 12866 and the Regulatory Flexibility Act, Executive Order 12988, and the Paperwork Reduction Act.

Further, for this action, the Office of Management and Budget has waived its review under Executive Order 12866.

List of Subjects

7 CFR Part 318

Cotton, Cottonseeds, Fruits, Guam, Hawaii, Plant diseases and pests, Puerto Rico, Quarantine, Transportation, Vegetables, Virgin Islands.

7 CFR Part 319

Bees, Coffee, Cotton, Fruits, Honey, Imports, Logs, Nursery stock, Plant diseases and pests, Quarantine, Reporting and recordkeeping requirements, Rice, Vegetables.

PART 318—HAWAIIAN AND TERRITORIAL QUARANTINE NOTICES

PART 319—FOREIGN QUARANTINE NOTICES

Accordingly, we are adopting as a final rule, without change, the interim rule that amended 7 CFR parts 318 and 319 and that was published at 68 FR 2681-2684 on January 21, 2003.

Authority: 7 U.S.C. 450, 7711-7714, 7718, 7731, 7732, 7751-7754, 7756, and 7760; 21 U.S.C. 136 and 136a; 7 CFR 2.22, 2.80, and 371.3.

Done in Washington, DC, this 16th day of May, 2003.
Kevin Shea,
Acting Administrator, Animal and Plant Health Inspection Service.

[FR Doc. 03-12984 Filed 5-22-03; 8:45 am]

BILLING CODE 3410-34-P